DEPARTMENT OF TRANSPORTATION

Federal Highway Administration

Environmental Impact Statement: Orange and San Diego Counties, CA

AGENCY: Federal Highway Administration (FHWA), DOT.

ACTION: Supplemental notice of intent.

SUMMARY: The FHWA originally published a Notice of Intent for the transportation project described below in the Federal Register on December 16, 1993 (58 FR 65758). Public scoping meetings on the project were held on August 25, 1994 and September 16, 1994. A revised Notice of Intent was published in the Federal Register on February 20, 2001 (66 FR 10934). The FHWA is issuing this supplemental Notice of Intent to advise the public of the dates, times, and locations of the scoping meetings that will be held to consider the project, which is located in southern Orange County and northern San Diego County, California.

FOR FURTHER INFORMATION CONTACT: Robert L. Cady, Transportation Engineer, Federal Highway Administration, California Division, 980 Ninth Street, Suite 400, Sacramento, California 95814-2724. Telephone: (916) 498-5038.

SUPPLEMENTARY INFORMATION: The FHWA in cooperation with the California Department of Transportation (Caltrans) will prepare an Environmental Impact Statement (EIS), on a proposal to locate and construct transportation infrastructure improvements in southern Orange County and northern San Diego County. The Transportation Corridor Agencies (TCA) is currently preparing a Subsequent Environmental Impact Report (SEIR) to comply with the review requirements of the California Environmental Quality Act. In an effort to eliminate unnecessary duplication and reduce delay, the document to be prepared will be a joint EIS/SEIR in accordance with the President's Council on Environmental Quality Regulations as described in Title 40 Code of Federal Regulations (CFR), Sections 1500.5 and 1506.2.

The purpose of the proposed project is provide improvements to the transportation infrastructure system that would help alleviate future traffic congestion and accommodate the need for mobility, access, goods movement, and future traffic demands on the interstate Route 5 (I-5) freeway and the arterial network in the southern Orange County area.

Alternatives under consideration include (1, 2, and 3) three southerly toll road extension alignments, including several variations thereof, from the existing terminus of the Foothill Transportation Corridor-North, State Route 241 (SR-241), at Oso Parkway, to the I-5 freeway near the Orange County/San Diego County line; (4) improvements to the local arterial system; (5) lane additions on I-5 in each direction between the I-5/I-405 confluence to Cristianitos Road; and (6) no action.

Note: As required by the National Environmental Policy Act (NEPA), all other reasonable alternatives will be considered. These alternatives may be refined, combined with various different alternative elements, or be removed from further consideration, as more analysis is conducted on the project alternative.

In November of 1985, Orange County began consultation with State and local agencies for the southern segment of SR-241, identified as beginning just south of the Oso Parkway interchange and extending southerly to a connection with the I-5 freeway. The TCA has continued these consultations and held a scoping meeting for state and federal agencies regarding the proposed route. These consultations identified areas of special concern along the proposed route, including new highway and arterial roadway improvements and updates to portions of the baseline information, which were the focus of locally initiated EIR studies. FHWA believes that this early and continued consultation has been extensive and consistent with 40 CFR 1501.7. However, in order to inform potentially affected agencies and the general public of FHWA involvement, and to gather further comments regarding the new alternatives for study, three public scoping meetings will be held as follows:

• Monday, March 26, 2001, from 6:30 p.m. to 9:30 p.m. (presentation starts at 7:30 p.m.) at the Christian Heritage Church, 190 Avenida La Pata, San Clemente, California.

• Tuesday, March 27, 2001, from 7:00 p.m.—10:00 p.m. (presentation starts at 8:00 p.m.) at the Trabuco Mesa Elementary School, 21301 Avenida Del Los Flores, Rancho Santa Margarita, California.

• Thursday, March 29, 2001, from 6:30 p.m. to 9:30 p.m. (presentation starts at 7:30 p.m.) at Mission San Luis Rey, 4070 Mission Avenue, Oceanside, California.

To ensure that the full range of issues related to the proposed routes are addressed and all significant issues identified, comments and suggestions are invited from all interested parties. Comments or questions concerning this proposed action and the EIS should be directed to the FHWA at the address provided above.

(Catalog of Federal Assistance Program Number 20.205, Highway Planning, and Construction. The regulations implementing Executive Order 12372 regarding intergovernmental consultation on Federal programs and activities apply to this program.)
Issued on: March 5, 2001.
Jeffrey W. Kolb,
Team Leader, Program Delivery Team-South, Sacramento, California.

[FR Doc. 01-6334 Filed 3-13-01; 8:45 am]

BILLING CODE 4910-22-M